NUCLEAR REGULATORY COMMISSION

[NRC-2010-0097]

Notice of Issuance of Regulatory Guide

AGENCY: Nuclear Regulatory Commission.

ACTION: Notice of Issuance and Availability of Regulatory Guide 1.54, Revision 2, “Service Level I, II, and III Protective Coatings Applied to Nuclear Power Plants.”

FOR FURTHER INFORMATION CONTACT: Bruce P. Lin, Division of Engineering, Office of Nuclear Regulatory Research, U.S. Nuclear Regulatory Commission, Washington, DC 20555-0001, telephone (301) 251-7653 or e-mail Bruce.Lin@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 1.54, “Service Level I, II, and III Protective Coatings Applied to Nuclear Power Plants,” was issued with a temporary identification as Draft Regulatory Guide, DG-1242. The NRC maintenance rule, Title 10 Code of Federal Regulations Section 50.65 (10 CFR 50.65), “Requirements for Monitoring the Effectiveness of Maintenance at Nuclear Power Plants,” includes in its scope safety-related structures, systems, and components (SSCs) that are relied on to remain functional during and following design-basis events with respect to specified functions and nonsafety-related SSCs (1) That are relied on to mitigate accidents or transients or are used in plant emergency operating procedures, (2) whose failure could prevent safety-related SSCs from fulfilling their safety-related functions, and (3) whose failure could cause a reactor scram or an actuation of a safety-related system. To the extent that protective coatings meet these criteria, these coatings are within the scope of the maintenance rule. The maintenance rule requires the licensee to monitor the effectiveness of maintenance for protective coatings within its scope (as discrete systems or components or as part of any SSC) or to demonstrate that their performance or condition of these coatings is being effectively controlled through the performance of appropriate preventive maintenance, in accordance with 10 CFR 50.65(a)(1) or 10 CFR 50.65(a)(2), as appropriate. Regulatory Guide (RG) 1.160, “Monitoring the Effectiveness of Maintenance at Nuclear Power Plants,” Revision 2, issued March 1997, provides further guidance.

II. Further Information

In March 2010, DG-1242 was published with a public comment period of 60 days from the issuance of the guide. The public comment period closed on May 12, 2010. The staff's responses to the comments received are located in the NRC's Agencywide Documents Access and Management System (ADAMS) under Accession No. ML102230359. Electronic copies of Regulatory Guide 1.54, Revision 2 are available through the NRC's public Web site under “Regulatory Guides” at http://www.nrc.gov/reading-rm/doc-collections/. The regulatory analysis may be found in ADAMS under Accession No. ML102230353.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 1st day of October, 2010.
For the Nuclear Regulatory Commission.
Harriet Karagiannis,
Acting Chief, Regulatory Guide Development Branch, Division of Engineering, Office of Nuclear Regulatory Research.

[FR Doc. 2010-25405 Filed 10-7-10; 8:45 am]

BILLING CODE 7590-01-P